ENVIRONMENTAL PROTECTION AGENCY

[ER-FRL-6624-5]

Environmental Impact Statements; Notice of Availability

Responsible Agency: Office of Federal Activities, General Information (202) 564-7167 or www.epa.gov/oeca/ofa.

Weekly receipt of Environmental Impact Statements

Filed December 03, 2001 Through December 07, 2001

Pursuant to 40 CFR 1506.9.

EIS No. 010506, DRAFT EIS, AFS, UT, Quitchupah Creek Road Project, Construct a Public Road, To Provide Public Access from SR-10 to the Acord Lakes Road, Application for Right-of-Way, Fishlake National, Forest, Sevier County Special Services District (SSD), Sevier and Emery Counties, UT, Comment Period Ends: February 15, 2002, Contact: Linda Jackson (435) 896-9233.

EIS No. 010507, FINAL EIS, COE, ND, Maple River Dam and Reservoir, Construction and Operation, Flood Control, Cass County Joint Water Resource District, Cass County, ND, Wait Period Ends: January 14, 2002, Contact: Robert Nebel (402) 221-4621.

EIS No. 010508, DRAFT EIS, FHW, WV, US-340 Transportation Corridor Improvement Study, Implementation, Proposal to Improve US 340 from the four-lane Section of the Charles-Town Bypass, Jefferson County, WV, Comment Period Ends: February 08, 2002, Contact: Thomas Smith (304) 347-5928.

EIS No. 010509, DRAFT EIS, COE, AR, Greers Ferry Lake Shoreline Management Plan (SMP), Implementing Revision to Replace the 1994 Shore Management Plan, Revision include Zoning of Limited Development Areas, Vegetation Modification Provisions for Grandfathered Docks and Restrictions on Boats, Van Buren, Cleburne, Searcy, Stone, White, Independence and Pope Counties, AR, Comment Period Ends: January 28, 2002, Contact: Patricia Anslow (501) 324-5028.

EIS No. 010510, FINAL EIS, AFS, MT, Tobacco Root Vegetation Management Plan, Restore and Maintain a Mix of Vegetation, Beaverhead-Deer Lodge National Forest, Madison Ranger District, Madison County, MT , Wait Period Ends: January 14, 2002, Contact: Jan M. Bowey (406) 842-5432.

EIS No. 010511, FINAL EIS, APH, Fruit Fly Cooperative Control Program, Eradication Program, Implementation, Wait Period Ends: January 14, 2002, Contact: Harold T. Smith (301) 734-6742. This document is available on the Internet at: http:www.aphis.usda.gov/ppd/es/ppq/ffeis.pdf

EIS No. 010512, FINAL SUPPLEMENT, COE, CA, Prado Dam Water Conversion Plan, Implementation, New Information Concerning New Modified Flood Protection Features, Remaining Features of the Santa Ana River Project (SARP) and Stabilization of the Bluff Toe at Norco Bluffs, Riverside, Orange and San Bernardino Counties, CA, Wait Period Ends: January 14, 2002, Contact: Ms. Hayle Lovan (213) 452-3863.

EIS No. 010513, DRAFT EIS, FHW, OR, Lincoln Bypass Construction, South of Industrial Boulevard to North of Riosa Road, Funding and U.S. Army COE Section 404 Permit Issuance, Placer County, CA, Comment Period Ends: January 28, 2002, Contact: Maiser Khaled (916) 498-5020.

EIS No. 010514, FINAL EIS, USN, ME, South Weymouth Naval Air Station, Disposal and Reuse, Norfolk and Plymouth Counties, MA, Wait Period Ends: February 11, 2002, Contact: Robert K. Ostermueller (610) 595-0759.

EIS No. 010515, FINAL EIS, HUD, CA, North Hollywood Arts and Entertainment District Project, Construction and Operation, North Hollywood Redevelopment Project, City of Los Angeles, and Los Angeles County, CA, Wait Period Ends: January 14, 2002, Contact: Mr. Tony Kochinas (213) 847-4307.

EIS No. 010516, DRAFT EIS, FHW, OR, South Medford Interchange Project, Interchange Project, Relocation on I-5 south of its current location at Barnett Road, Funding, Jackson County, OR, Comment Period Ends: January 14, 2002, Contact: John Gernhauser (503) 399-5749. Due to an Administrative Error by the FHWA the above DEIS was not properly filed with the USEPA. FHWA has confirmed that distribution of the DEIS was made available to federal agencies and interested parties for a 45-Day Comment Period Ending on 12/03/2001. FHWA has Extended the Comment Period for 30-Days Ending 01/14/2002. For further information contact Mr. Greg Holthoff at 503-986-3504.

EIS No. 010517, DRAFT EIS, FRC, WA, Georgia Strait Crossing Pipeline (LP) Project, Construction and Operation, To Transport Natural Gas from the Canadian Border near Sumas, WA to US/Canada Border at Boundary Pass in the Strait of Georgia, Docket Nos. CP01-176-000 and CP01-179-000, Whatcom and San Juan Counties, WA, Comment Period Ends: February 04, 2002, Contact: Linwood A. Watson (202) 208-0400.

EIS No. 010518, FINAL EIS, IBR, WA, Potholes Reservoir Resource Management Plan, Implementation, COE Section 404 and NPDES Permits, Moses Lake, Grant County, WA, Wait Period Ends: January 14, 2002, Contact: Jim Blanchard (509) 754-0226.

EIS No. 010519, DRAFT EIS, TVA, TN, KY, MS, AL, GA, NC, Browns Ferry Nuclear Plant, Operating License Renewal, To Extend Operation of Units 2 and 3, and Potentially Unit 1, Athens, Limestone County, AL, Comment Period Ends: January 30, 2002, Contact: Bruce L. Yeager (865) 632-8051.

EIS No. 010520, FINAL SUPPLEMENT, NPS, AZ, Organ Pipe Cactus National Monument General Management Plan and Development Concept Plan Implementation, Portion of the Sonoran Desert, Pima County, AZ , Wait Period Ends: January 14, 2002, Contact: William E. Wellman (520) 387-7661.

EIS No. 010521, FINAL EIS, AFS, MT, Gold/Boulder/Sullivan (GBS), Implementation of Timber Harvest and Associated Activities Prescribed Burning, Kootenai National Forest, Rexford Ranger District, Lincoln County, MT , Wait Period Ends: January 14, 2002, Contact: Ron Komac (406) 296-2536.

EIS No. 010522, FINAL EIS, COE, OH, Ashtabula River and Harbor Dredging and Disposal Project, Design, Construction, Operation and Maintenance, Ashtabula River Partnership (ARP), Ashtabula County, OH , Wait Period Ends: January 14, 2002, Contact: John Mahan (440) 964-0277.

Amended Notices

EIS No. 010305, DRAFT SUPPLEMENT, FAA, MN, Flying Cloud Airport, Substantive Changes to Alternatives and New Information, Extension of the Runways 9R/27L and 9L/27R, Long-Term Comprehensive Development, In the City of Eden Prairie, Hennepin County, MN, Comment Period Ends: December 07, 2001, Contact: Glen Orcutt (612) 713-4354. Revision of FR Notice Published on 08/24/2001: CEQ. Comment Period Ending on 12/07/2001 has been Extended to 01/31/2002.

EIS No. 010401, DRAFT SUPPLEMENT, FHW, MI, US-31 Petoskey Area Improvement Study, To Reduce Congestion on US-31 in the City of Petoskey and Resort and Bear Creek Townships, COE Section 404 Permit, Emmet County, MI, Comment Period Ends: December 17, 2001, Contact: James A. Kirschensteiner (517) 702-1835. Revision of FR Notice Published on 11/02/2001: CEQ. Comment Period Ending 12/17/2001 has been extended to 01/15/2002.

EIS No. 010500, DRAFT SUPPLEMENT, BIA, NV, Moapa Paiute Energy Center/Associated Facilities Construction, Operation and Maintenance of a 760 Megawatt (MW) Baseload Natural Gas-Fired Combined Cycle Power Plant, New Information concerning Structural, Route and Substation Location Changes, Moapa River Indian Reservation and Bureau of Land Management Lands, Clark County, NV, Comment Period Ends: January 14, 2002, Contact: Amy L. Heuslien (602) 379-6750. Revision of FR notice published on 11/30/2001: CEQ Comment Period Ending 01/04/2002 has been Corrected to 01/14/2002.

Dated: December 11, 2001.
Joseph C. Montgomery,
Director, NEPA Compliance Division, Office of Federal Activities.

[FR Doc. 01-30932 Filed 12-13-01; 8:45 am]

BILLING CODE 6560-50-P